DEPARTMENT OF JUSTICE

Notice of Lodging of Consent Decree Under the Comprehensive Environmental Response, Compensation, and Liability Act

Notice is hereby given that on August 14, 2006, a proposed Consent Decree in United States et al. v. Macalloy Corp. et al., Civil Action Number 2:06-cv-02265-DCN, was lodged with the United States District Court for the District of South Carolina.

The consent decree resolves claims against two defendants, Macalloy Corporation and the BOC Group, brought by the United States under Section 107 of the Comprehensive Environmental Response, Compensation, and Liability Act (“CERCLA”), 42 U.S.C. 9607, for damages for injuries to natural resources resulting from release of hazardous substances at the Macalloy Site in Charleston, South Carolina. The Consent Decree also resolves potential counterclaims by the Defendants against the United States General Services Administration and the United States Defense Logistics Agency. Under the Consent Decree, the Defendants and two settling Federal agencies will pay $575,000 for damages to the Department of the Interior, the National Oceanographic and Atmospheric Administration, and three State of South Carolina agencies, collectively acting as Trustees of the injured natural resources. The consent decree includes a covenant not to sue by the United States and state trustee agencies under CERCLA for natural resource damages.

The Department of Justice will receive, for a period of thirty (30) days from the date of this publication, comments relating to the Consent Decree. Comments should be addressed to the Assistant Attorney General, Environment and Natural Resources Division, P.O. Box 7611, U.S. Department of Justice, Washington, DC 20044-7611, and should refer to United States et al. v. Macalloy Corp. et al., DOJ Ref. #90-11-2-07214/1.

The Consent Decree may be examined at the Office of the United States Attorney, District of South Carolina, 170 Meeting Street, 3rd Floor, Charleston, South Carolina 29401. During the public comment period, the Consent Decree may also be examined on the following Department of Justice Web site: http://www.usdoj.gov/enrd/Consent—Decrees.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $7.50 (25 cents per page reproduction cost) payable to the U.S. Treasury, or, if by e-mail or fax, forward a check in that amount to the Consent Decree Library at the stated address.

Henry Friedman,
Assistant Section Chief, Environmental Enforcement Section, Environment and Natural Resources Division.

[FR Doc. 06-7107 Filed 8-22-06; 8:45 am]

BILLING CODE 4410-15-M